DEPARTMENT OF COMMERCE

National Oceanic and Atmospheric Administration

RIN 0648-XC304

Atlantic Coastal Fisheries Cooperative Management Act Provisions; General Provisions for Domestic Fisheries; Application for Exempted Fishing Permits

AGENCY: National Marine Fisheries Service (NMFS), National Oceanic and Atmospheric Administration (NOAA), Commerce.

ACTION: Notice; request for comments.

SUMMARY: The Assistant Regional Administrator for Sustainable Fisheries, Northeast Region, NMFS (Assistant Regional Administrator), has made a preliminary determination that an Exempted Fishing Permit (EFP) application contains all of the required information and warrants further consideration. This EFP application would exempt 11 commercial fishing vessels from the following Federal American lobster regulations: (1) Gear specifications, including escape vents; (2) trap limits; and (3) trap tag requirements. In order to understand patterns of larval dispersal and settlement in the offshore Lobster Management Area 3 (Area 3), 11 federally permitted vessels would utilize a maximum combined total of 50 modified lobster traps to target juvenile American lobsters.

Regulations under the Magnuson-Stevens Fishery Conservation and Management Act require publication of this notification to provide interested parties the opportunity to comment on applications for proposed EFPs.

DATES: Comments must be received on or before November 21, 2012.

ADDRESSES: Comments on this notice may be submitted by email. The mailbox address for providing email comments is NERO.EFP@noaa.gov. Include in the subject line “Comments on AOLA Lobster EFP.” Written comments should be sent to: John Bullard, Regional Administrator, NMFS, NE Regional Office, 55 Great Republic Drive, Gloucester, MA 01930. Mark the outside of the envelope “Comments on AOLA Lobster EFP.”

• Fax: (978) 281-9135.

FOR FURTHER INFORMATION CONTACT: Maria Jacob, Environmental Technician, 978-281-9180, Maria.Jacob@noaa.gov.

SUPPLEMENTARY INFORMATION: This proposed project would be conducted by the Atlantic Offshore Lobstermen's Association (AOLA) in conjunction with scientists and the fishing industry. AOLA submitted a complete application for an EFP on September 28, 2012, to conduct commercial fishing activities that the regulations would otherwise restrict. This EFP application would exempt 11 commercial fishing vessels from the following Federal regulations: Gear specifications (including escape vents) specified under § 697.21(c); trap limits specified under § 697.19(b)(5); and trap tags specified under § 697.19(f). The EFP would authorize 11 federally permitted vessels to be exempted from parts of the Federal lobster regulations to allow the participating vessels to fish modified lobster traps, exceed trap limits, and deploy the modified traps without trap tags to analyze the extent to which young lobsters are present in the offshore Area 3. Some scientists believe that the lobster larvae will only survive in the inshore fishery due to the depths and available light, and that there are no small lobsters offshore; however, data resulting from this project are intended to determine whether there are new lobster nursery grounds offshore.

The modified gear may include smaller wire mesh sizes, modified entrance heads/rings, and closed escape vents. The deployment of the experimental traps throughout Area 3 (statistical areas 464, 465, 561, 562, 525, 526, 537, 613, 616, and 626) would begin shortly after the issuance of the EFP and is expected to continue for 1 year. AOLA would submit progress reports twice a year to cover the first and second half of the 12-month study period. The exact specification for the chosen design would be provided in the first progress report. Participating vessels would use the experimental lobster traps as part of a commercial lobster trap trawl deployed under routine industry conditions, by adding up to three of the modified traps to the trap trawl. Under these exemptions, each vessel would be allowed to fish up to 10 traps in excess of its Federal trap allocation, for no more than 50 modified traps in the water at any given time. Modified traps would remain in the water for up to 12 consecutive months (365 days), being hauled weekly following the normal fishing schedule of the participating vessels. The gear would be compliant with the Atlantic Large Whale Take Reduction Plan.

The research activities occurring in Area 3 are not anticipated to have any more environmental impacts than those already occurring as part of a commercial lobster trap trawl deployed under usual industry conditions. Impacts to the lobster resource would be negligible given the limited scope of the exempted activity. Given the small mesh and entrance heads, the modified gear is not expected to catch legal lobsters. Any sublegal lobsters caught would briefly be retained onboard only for the purposes of recording their size, sex, egg stage of female lobsters, and presence of shell disease, before being promptly released back into the ocean. There should be minimal impact to bycatch species due to the use of small mesh and small entrance heads and, in addition, all bycatch species hauled from modified gear would be returned promptly to the ocean. Likewise, there would not be significant impacts on benthic habitats, given that 50 additional traps is negligible in comparison to the number of traps deployed by the lobster commercial fishery at large.

If approved, the applicant may request minor modifications and extensions to the EFP throughout the year. EFP modifications and extensions may be granted without further notice if they are deemed essential to facilitate completion of the proposed research and have minimal impacts that do not change the scope or impact of the initially approved EFP request. Any fishing activity conducted outside the scope of the exempted fishing activity would be prohibited.

Authority: 16 U.S.C. 1801 et seq.

Dated: November 1, 2012.
Lindsay Fullenkamp,
Acting Deputy Director, Office of Sustainable Fisheries, National Marine Fisheries Service.

[FR Doc. 2012-27078 Filed 11-5-12; 8:45 am]

BILLING CODE 3510-22-P